DEPARTMENT OF ENERGY

Federal Energy Regulatory Commission

Combined Notice of Filings #1

Take notice that the Commission received the following exempt wholesale generator filings:

Docket Numbers: EG18-69-000.

Applicants: NC 102 Project LLC.

Description: Notice of Self-Certification of Exempt Wholesale Generator Status of NC 102 Project LLC.

Filed Date: 3/29/18.

Accession Number: 20180329-5136.

Comments Due: 5 p.m. ET 4/19/18.

Docket Numbers: EG18-70-000.

Applicants: 64KT 8ME LLC.

Description: Notice of Self-Certification of Exempt Wholesale Generator Status of 64KT 8ME LLC.

Filed Date: 3/29/18.

Accession Number: 20180329-5275.

Comments Due: 5 p.m. ET 4/19/18.

Take notice that the Commission received the following electric rate filings:

Docket Numbers: ER16-2095-004.

Applicants: Midwest Generation, LLC.

Description: Compliance filing: Refund Report Informational Filing to be effective N/A.

Filed Date: 3/29/18.

Accession Number: 20180329-5231.

Comments Due: 5 p.m. ET 4/19/18.

Docket Numbers: ER17-775-004.

Applicants: PJM Interconnection, LLC.

Description: Compliance filing: Errata to the Further Compliance Filing Submitted in Docket No. ER17-775-003 to be effective 4/1/2018.

Filed Date: 3/29/18.

Accession Number: 20180329-5088.

Comments Due: 5 p.m. ET 4/19/18.

Docket Numbers: ER18-572-000.

Applicants: South Central MCN LLC.

Description: Response of South Central MCN LLC to the February 26, 2018 Letter and Updated Limited Revisions to the Transmission Formula Rate.

Filed Date: 3/26/18.

Accession Number: 20180326-5272.

Comments Due: 5 p.m. ET 4/16/18.

Docket Numbers: ER18-934-001.

Applicants: PJM Interconnection, LLC.

Description: Tariff Amendment: Amendment to Revisions Submitted in Docket No. ER18-934-000 to be effective 5/1/2018.

Filed Date: 3/29/18.

Accession Number: 20180329-5104.

Comments Due: 5 p.m. ET 4/9/18.

Docket Numbers: ER18-1197-001.

Applicants: Camilla Solar Energy LLC.

Description: Tariff Amendment: Supplement to Application for Market-Based Rate Authorization to be effective 5/28/2018.

Filed Date: 3/28/18.

Accession Number: 20180328-5090.

Comments Due: 5 p.m. ET 4/18/18.

Docket Numbers: ER18-1209-000.

Applicants: Southwestern Electric Power Company.

Description: § 205(d) Rate Filing: RS126 Bentonville Depreciation Rate Update to be effective 5/31/2018.

Filed Date: 3/28/18.

Accession Number: 20180328-5244.

Comments Due: 5 p.m. ET 4/18/18.

Docket Numbers: ER18-1210-000.

Applicants: Southwestern Electric Power Company.

Description: § 205(d) Rate Filing: Revised and Restated Prescott PSA to be effective 1/1/2018.

Filed Date: 3/28/18.

Accession Number: 20180328-5252.

Comments Due: 5 p.m. ET 4/18/18.

Docket Numbers: ER18-1211-000.

Applicants: Duke Energy Progress, LLC.

Description: § 205(d) Rate Filing: DEP-SCE&G IA RS No 97 Amendment to be effective 6/1/2018.

Filed Date: 3/29/18.

Accession Number: 20180329-5007.

Comments Due: 5 p.m. ET 4/19/18.

Docket Numbers: ER18-1212-000.

Applicants: Southwest Power Pool, Inc.

Description: § 205(d) Rate Filing: 2646R5 Kansas Municipal Energy Agency NITSA NOA to be effective 3/1/2018.

Filed Date: 3/29/18.

Accession Number: 20180329-5058.

Comments Due: 5 p.m. ET 4/19/18.

Docket Numbers: ER18-1213-000.

Applicants: Emera Maine, ISO New England Inc.

Description: § 205(d) Rate Filing: Changes to ISO New England Tariff Schedule 21-EM to be effective 6/1/2018.

Filed Date: 3/29/18.

Accession Number: 20180329-5064.

Comments Due: 5 p.m. ET 4/19/18.

Docket Numbers: ER18-1214-000.

Applicants: South Carolina Electric & Gas Company.

Description: § 205(d) Rate Filing: IA between DEP and SCEG to be effective 6/1/2018.

Filed Date: 3/29/18.

Accession Number: 20180329-5089.

Comments Due: 5 p.m. ET 4/19/18.

Docket Numbers: ER18-1215-000.

Applicants: Radford's Run Wind Farm, LLC.

Description: Baseline eTariff Filing: Rate Schedule for Reactive Supply and Voltage Control to be effective 5/28/2018.

Filed Date: 3/29/18.

Accession Number: 20180329-5115.

Comments Due: 5 p.m. ET 4/19/18.

Docket Numbers: ER18-1216-000.

Applicants: Southwestern Electric Power Company.

Description: § 205(d) Rate Filing: ETEC and NTEC PSA to be effective 5/31/2018.

Filed Date: 3/29/18.

Accession Number: 20180329-5118.

Comments Due: 5 p.m. ET 4/19/18.

Docket Numbers: ER18-1217-000.

Applicants: Southwestern Electric Power Company.

Description: § 205(d) Rate Filing: Amended and Restated NTEC PSA to be effective 5/31/2017.

Filed Date: 3/29/18.

Accession Number: 20180329-5120.

Comments Due: 5 p.m. ET 4/19/18.

Docket Numbers: ER18-1218-000.

Applicants: Southwestern Electric Power Company.

Description: § 205(d) Rate Filing: Revised and Restated Prescott PSA to be effective 7/1/2014.

Filed Date: 3/29/18.

Accession Number: 20180329-5129.

Comments Due: 5 p.m. ET 4/19/18.

Docket Numbers: ER18-1219-000.

Applicants: Midcontinent Independent System Operator, Inc.

Description: § 205(d) Rate Filing: 2018-03-29_SA 3105 EMI-EMI GIA (J477) to be effective 3/15/2018.

Filed Date: 3/29/18.

Accession Number: 20180329-5156.

Comments Due: 5 p.m. ET 4/19/18.

Docket Numbers: ER18-1221-000.

Applicants: NC 102 Project LLC.

Description: Baseline eTariff Filing: Application For Market Based Rate Authority to be effective 3/30/2018.

Filed Date: 3/29/18.

Accession Number: 20180329-5191.

Comments Due: 5 p.m. ET 4/19/18.

Docket Numbers: ER18-1222-000.

Applicants: PSEG Energy Resources & Trade LLC.

Description: § 205(d) Rate Filing: Filing to Add Keys and Sewaren 7 Revenue Requirement to be effective 6/1/2018.

Filed Date: 3/29/18.

Accession Number: 20180329-5192.

Comments Due: 5 p.m. ET 4/19/18.

Docket Numbers: ER18-1223-000.

Applicants: ISO New England Inc., New England Power Pool Participants Committee.

Description: § 205(d) Rate Filing: ISO-NE and NEPOOL; Pay for Performance Enhancements to be effective 6/1/2018.

Filed Date: 3/29/18.

Accession Number: 20180329-5193.

Comments Due: 5 p.m. ET 4/19/18.

Docket Numbers: ER18-1225-000.

Applicants: Southwestern Electric Power Company.

Description: § 205(d) Rate Filing: Revised and Restated Minden PSA to be effective 5/31/2018.

Filed Date: 3/29/18.

Accession Number: 20180329-5197.

Comments Due: 5 p.m. ET 4/19/18.

Docket Numbers: ER18-1226-000.

Applicants: PA Solar Park, LLC.

Description: Baseline eTariff Filing: PA Solar Park, LLC Reactive Power Rate Filing to be effective 6/1/2018.

Filed Date: 3/29/18.

Accession Number: 20180329-5200.

Comments Due: 5 p.m. ET 4/19/18.

Docket Numbers: ER18-1227-000.

Applicants: Southwestern Public Service Company.

Description: § 205(d) Rate Filing: SPS-Caprock Solar 1 E & P—686-0.1.0-NOC to be effective 3/30/2018.

Filed Date: 3/29/18.

Accession Number: 20180329-5202.

Comments Due: 5 p.m. ET 4/19/18.

Docket Numbers: ER18-1228-000.

Applicants: Duke Energy Progress, LLC.

Description: § 205(d) Rate Filing: DEP-Revised Depreciation Rates in RS No. 199 to be effective 3/16/2018.

Filed Date: 3/29/18.

Accession Number: 20180329-5244.

Comments Due: 5 p.m. ET 4/19/18.

Docket Numbers: ER18-1229-000.

Applicants: Duke Energy Carolinas, LLC, PJM Interconnection, LLC.

Description: § 205(d) Rate Filing: Amended Dynamic Transfer Agreement, Service Agreement No. 5047 to be effective 6/1/2018.

Filed Date: 3/29/18.

Accession Number: 20180329-5246.

Comments Due: 5 p.m. ET 4/19/18.

Docket Numbers: ER18-1230-000.

Applicants: Duke Energy Progress, LLC, Duke Energy Carolinas, LLC.

Description: § 205(d) Rate Filing: DEC-DEP—Revised Depreciation Rates in Attachment H.1 to be effective 3/16/2018.

Filed Date: 3/29/18.

Accession Number: 20180329-5247.

Comments Due: 5 p.m. ET 4/19/18.

Docket Numbers: ER18-1231-000.

Applicants: New York Independent System Operator, Inc.

Description: § 205(d) Rate Filing: NYISO 205 filing of Invertar-Based Energy Storage tariff revisions to be effective 5/30/2018.

Filed Date: 3/29/18.

Accession Number: 20180329-5249.

Comments Due: 5 p.m. ET 4/19/18.

Docket Numbers: ER18-1232-000.

Applicants: Westar Energy, Inc.

Description: § 205(d) Rate Filing: Request to Recover Costs in Formula Rates, TFR, Actual Gross Rev to be effective 6/1/2018.

Filed Date: 3/29/18.

Accession Number: 20180329-5252.

Comments Due: 5 p.m. ET 4/19/18.

Docket Numbers: ER18-1233-000.

Applicants: Duke Energy Carolinas, LLC, PJM Interconnection, LLC.

Description: § 205(d) Rate Filing: Amended and Restated Dynamic Transfer Agreement DEC-NCEMC-PJM to be effective 6/1/2018.

Filed Date: 3/29/18.

Accession Number: 20180329-5263.

Comments Due: 5 p.m. ET 4/19/18.

Take notice that the Commission received the following electric securities filings:

Docket Numbers: ES18-25-000.

Applicants: ISO New England Inc.

Description: Application under Section 204 of the Federal Power Act for an Order Authorizing Future Drawdowns Under Existing Authorized Securities of ISO New England Inc.

Filed Date: 3/28/18.

Accession Number: 20180328-5255.

Comments Due: 5 p.m. ET 4/18/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 29, 2018.
Nathaniel J. Davis, Sr.,
Deputy Secretary.

[FR Doc. 2018-06894 Filed 4-3-18; 8:45 am]

BILLING CODE 6717-01-P